DEPARTMENT OF AGRICULTURE

Natural Resources Conservation Service

Notice of Proposed Changes to Section IV of the Field Office Technical Guide (FOTG) of the Natural Resources Conservation Service in Michigan

AGENCY: Natural Resources Conservation Service (NRCS) in Michigan, U.S. Department of Agriculture.

ACTION: Notice of availability of proposed changes in Michigan NRCS FOTG, Section IV for review and comment.

SUMMARY: It is the intention of NRCS in Michigan to issue revised conservation practice standards in Section IV of the FOTG. The revised standards include:

Access Road (Ft.) 560

Brush Management (Ac.) 314

Clearing and Snagging (Ft.) 326

Commercial Fish Ponds (Ac.) 397

Conservation Cover (Ac.) 327

Conservation Crop Rotation (Ac.) 328

Contour Farming (Ac.) 330

Contour Orchard and Other Fruit Area (Ac.) 331

Contour Stripcropping (Ac.) 585

Cross Wind Stripcropping (Ac.) 589B

Cross Wind Trap Strip—Field (Ac.) 589C

Cross Wind Trap Strip—Filter (Ac.) 589C

Deep Tillage (Ac.) 324

Dike (Ft.) 356

Diversion (Ft.) 362

Drainage Water Management (Ac.) 554

Dry Hydrant (No.) 432

Field Ditch (Ft.) 607

Filter Strip—Animal Waste Management (Ac.) 780

Fish Pond Management (No.) 399

Fish Raceway or Tank (Ft.) 398

Grade Stabilization Structure (No.) 410

Irrigation Pit or Regulating Reservoir (No.) 552-A

Irrigation Pit or Regulating Reservoir (No.) 552-B

Irrigation Storage Reservoir (No.) 436

Irrigation System, Microirrigation (No. & Ac.) 441

Irrigation System, Sprinkler (No. & Ac.) 442

Irrigation Water Conveyance Pipeline—High-Pressure, Underground, Plastic (Ft.) 430-DD

Irrigation Water Conveyance Pipeline—Low-Pressure, Underground, Plastic (Ft.) 430-EE

Irrigation Water Management (Ac.) 449

Land Reconstruction, Abandoned Mined Land (Ac.) 543

Land Reconstruction, Currently Mined Land (Ac.) 544

Land Smoothing (Ac.) 466

Lined Waterway or Outlet (Ft.) 468

Mine Shaft and Adit Closing (No.) 457

Mulching (Ac.) 484

Nutrient Management (Ac.) 590

Obstruction Removal (Ac.) 500

Open Channel (Ft.) 582

Pest Management (Ac.) 595

Pond Sealing or Lining—Bentonite Treatment (No.) 521-C

Pond Sealing or Lining—Flexible Membrane (No.) 521-A

Pond Sealing or Lining—Soil Dispersant (No.) 521-B

Pumping Plant for Water Control (No.) 533

Recreation Area Improvement (Ac.) 562

Residue Management, Ridge Till (Ac.) 329C

Residue Management, Seasonal (Ac.) 344

Riparian Forest Buffer (Ac.) 391

Sediment Basin (No.) 350

Spring Development (No.) 574

Stream Channel Stabilization (Ft.) 584

Stream Crossing and Livestock Access (Ft.) 728

Stripcropping, Field (Ac.) 586

Structure for Water Control (No.) 587

Subsurface Drain (Ft.) 606

Surface Drainage, Main or Lateral (Ft.) 608

Underground Outlet (Ft.) 620

Waste Utilization (No. & Ac.) 633

Water and Sediment Control Basin (No.) 638

Windbreak/Shelterbelt Establishment (Ft.) 380

Windbreak/Shelterbelt Renovation (Ft.) 650

DATES: Comments will be received for a 30-day period commencing with this date of publication.

FOR FURTHER INFORMATION CONTACT: Inquire in writing to Kevin Wickey, Assistant State Conservationist for Technology, Natural Resources Conservation Service, 3001 Coolidge Road, Suite 250, E. Lansing, MI 48823. Copies of these standards will be made available upon written request. You may submit electronic requests and comments to Kevin.Wickey@mi.usda.gov.

FOR FURTHER INFORMATION CONTACT: Kevin Wickey 517-324-5279.

SUPPLEMENTARY INFORMATION: Section 393 of the Federal Agriculture Improvement and Reform Act of 1996 states that revisions made after enactment of the law, to NRCS state technical guides used to carry out highly erodible land and wetland provisions of the law, shall be made available for public review and comment. For the next 30 days, the NRCS in Michigan will receive comments relative to the proposed changes. Following that period, a determination will be made by the NRCS in Michigan regarding disposition of those comments and a final determination of change will be made.

Dated: August 23, 2002.
Ronald C. Williams,
State Conservationist, E. Lansing, Michigan.

[FR Doc. 02-22858 Filed 9-9-02; 8:45 am]

BILLING CODE 3410-16-P